DEPARTMENT OF COMMERCE

International Trade Administration

Reestablishment of the Renewable Energy and Energy Efficiency Advisory Committee and Solicitation of Nominations for Membership; Amendment

AGENCY: Renewable Energy and Energy Efficiency Advisory Committee: International Trade Administration, Department of Commerce.

ACTION: Notice of Reestablishment of the Renewable Energy and Energy Efficiency Advisory Committee and Solicitation of Nominations for Membership; Amendment.

SUMMARY: This notice amends the Department of Commerce, International Trade Administration Notice of Reestablishment of the Renewable Energy and Energy Efficiency Advisory Committee (the Committee) and Solicitation of Nominations for Membership of June 23, 2014 (79 FR 35524) to revise the eligibility criteria to permit federally-registered lobbyists to apply for membership on the Committee. The Department of Commerce recently revised its policy regarding appointment of federally-registered lobbyists to Department advisory committees following a policy clarification by the Office of Management and Budget that the eligibility restriction does not apply to advisory committee members who serve in a representative capacity (see 79 FR 47482). Notwithstanding the language in the Committee charter, the Secretary of Commerce (the Secretary) will now consider nominations of federally-registered lobbyists for appointment on the Committee. We are in the process of amending the charter. This notice also extends the deadline for submitting applications to August 29, 2014. All other eligibility criteria continue to apply.

In June 2014, the Department of Commerce reestablished the Committee. The Committee advises the Secretary regarding the development and administration of programs and policies to expand the competitiveness of U.S. exports of renewable energy and energy efficiency goods and services, in accordance with applicable United States regulations. The Committee's work on energy efficiency focuses on technologies, services, and platforms that provide system-level energy efficiency to electricity generation, transmission, and distribution. These include smart grid technologies and services, as well as equipment and systems that increase the resiliency of power infrastructure. For the purposes of this Committee, covered goods and services will not include vehicles, feedstock for biofuels, or energy efficiency at it relates to consumer goods. Non-fossil fuels that are considered renewable fuels (e.g., liquid biofuels and pellets) are included.

DATES: Nominations must be received on or before 4 p.m. Eastern Daylight Time (EDT) on August 29, 2014.

FOR FURTHER INFORMATION CONTACT: Ryan Mulholland, Office of Energy & Environmental Industries, Room 4053, U.S. Department of Commerce, 1401 Constitution Avenue NW., Washington, DC 20230; phone 202-482-4693; fax 202-482-5665; email Ryan.Mulholland@trade.gov.

SUPPLEMENTARY INFORMATION: As announced previously, pursuant to the provisions of the Federal Advisory Committee Act, 5 U.S.C. App., the Department of Commerce reestablished the Committee on June 12, 2014 for a period of two years.

The Committee consists of approximately 35 members appointed by the Secretary in accordance with applicable Department of Commerce guidance and based on their ability to carry out the objectives of the Committee. Members represent U.S. companies, U.S. trade associations, and U.S. private sector organizations with activities focused on the export competitiveness of U.S. renewable energy and energy efficiency goods and services. In selecting members, Commerce considers whether the members reflect the diversity of this sector, including in terms of entity or organization size, geographic location, and subsector represented, and represent the diversity of company or organizational roles in the development of renewable energy and energy efficiency projects, including project developers, technology integrators, financial institutions, and manufacturers. The Secretary appoints to the Committee at least one individual representing each of the following:

a. A U.S. renewable energy company involved in international trade;

b. A U.S. energy efficiency company involved in international trade;

c. A U.S. small business in the renewable energy or energy efficiency industry that is involved in international trade;

d. A U.S. trade association in the renewable energy or energy efficiency sector;

e. A U.S. private sector organization involved with international investment or financing activities concerning the international trade of renewable energy and energy efficiency products and services;

f. A U.S. company or organization involved with business activities concerning the development of renewable energy and energy efficiency projects in international markets; and

g. A U.S. smart grid company or organization with technology or services that improve the reliability, efficiency, and/or security of the electric grid and involved in international trade.

Members serve at the pleasure of the Secretary from the date of appointment to the Committee to the date on which the Committee's charter terminates, June 12, 2016. Members, all of whom come from the private sector, serve in a representative capacity presenting the views and interests of a U.S. entity or U.S. organization, as well as their particular subsector. They are, therefore, not Special Government Employees. Members will not be compensated for their services or reimbursed for their travel expenses.

Additional information on the Committee is available at: http://export.gov/reee/eg_main_023040.asp.

Eligibility and Nomination Process:

The following eligibility requirements must be met:

i. The member must represent either a U.S. company, a U.S. trade association, or a U.S. private sector organization with activities focused on the competitiveness of U.S. exports of renewable energy and energy efficiency goods and services;

ii. The member must not be registered as foreign agent under the Foreign Agents Registration Act; and

iii. The member must not represent a company that is majority owned or controlled by a foreign government entity or foreign government entities.

In order to be considered for membership on the Committee, please follow the instructions in the Nominations section.

Nominations: If you are interested in applying or nominating someone else to be a member of the Committee, please provide the following information:

(1) Sponsor letter on the company's, trade association's or organization's letterhead containing the name, title, and relevant contact information (including phone, fax, and email address) of the individual requesting consideration;

(2) An affirmative statement that the nominee will be able to meet the expected time commitments of Committee work. Committee work includes (1) attending in-person committee meetings roughly four times per year (lasting one day each), (2) undertaking additional work outside of full committee meetings including subcommittee conference calls or meetings as needed, and (3) frequently drafting, preparing, or commenting on proposed recommendations to be evaluated at Committee meetings;

(3) Short biography of nominee, including credentials;

(4) Brief description of the company, trade association, or organization to be represented and its business activities; company size (number of employees and annual sales); and export markets served;

(5) An affirmative statement that the nominee meets all Committee eligibility requirements. Please do not send company, trade association, or organization brochures or any other information.

Nominations may be emailed to Ryan.Mulholland@trade.gov, faxed to the attention of Ryan Mulholland at 202-482-5665, or mailed to Ryan Mulholland, Office of Energy & Environmental Industries, Room 4053, U.S. Department of Commerce, 1401 Constitution Avenue NW., Washington, DC 20230, and must be received by 4:00 p.m. EDT on August 29, 2014. Nominees selected for appointment to the Committee will be notified by return mail.

Dated: August 19, 2014.
Ryan P. Mulholland,
Acting Team Leader for Environmental Industries.

[FR Doc. 2014-20149 Filed 8-22-14; 8:45 am]

BILLING CODE 3510-DSR-P